DEPARTMENT OF COMMERCE

International Trade Administration

[A-549-821]

Polyethylene Retail Carrier Bags From Thailand: Rescission of Antidumping Duty Administrative Review

AGENCY: Import Administration, International Trade Administration, Department of Commerce.

SUMMARY: In response to a request from an interested party, the Department of Commerce (the Department) initiated an administrative review of the antidumping duty order on polyethylene retail carrier bags from Thailand. The period of review is August 1, 2010, through July 31, 2011. As a result of the withdrawal of the request for review, the Department is rescinding this review.

DATES: Effective Date: May 1, 2012.

FOR FURTHER INFORMATION CONTACT: Catherine Cartsos or Minoo Hatten, AD/CVD Operations, Office 1, Import Administration, International Trade Administration, U.S. Department of Commerce, 14th Street and Constitution Avenue NW., Washington, DC 20230; telephone: (202) 482-1757 or (202) 482-1690, respectively.

SUPPLEMENTARY INFORMATION:

Background

On October 3, 2011, the Department published a notice of initiation of an administrative review of the antidumping duty order on polyethylene retail carrier bags from Thailand. See Initiation of Antidumping and Countervailing Duty Administrative Reviews and Requests for Revocations in Part, 76 FR 61076 (October 3, 2011). Based on a request for review from the Polyethylene Retail Carrier Bag Committee and its individual members, Hilex Poly Co., LLC and Superbag Corporation (collectively, the petitioners), we initiated a review of Apple Film Company, Ltd., First Pack Co. Ltd., Hi-Pak Company, Ltd., K International Packaging Co., Ltd., Landblue (Thailand) Co., Ltd., Multibax Public Co., Ltd., Praise Home Industry, Co. Ltd., Siam Flexible Industries Co. Ltd., Sombatchai Plastic Industry, Ltd., Thai Jirun Co., Ltd., Trinity Pac Co. Ltd., T.S.T. Plaspack Co., Ltd., and U. Yong Industry Co., Ltd. Id. No other party requested a review.

Rescission of Review

In accordance with 19 CFR 351.213(d)(1), the Department will rescind an administrative review, “in whole or in part, if a party that requested a review withdraws the request within 90 days of the date of publication of notice of initiation of the requested review. The Secretary may extend this time limit if the Secretary decides that it is reasonable to do so.” On October 17, 2011, the petitioners withdrew their request for a review of the order with respect to First Pack Co. Ltd., K International Packaging Co., Ltd., Landblue (Thailand) Co., Ltd., Praise Home Industry, Co. Ltd., Siam Flexible Industries Co., Ltd., Thai Jirun Co., Ltd., and U. Yong Industry Co., Ltd. On December 23, 2011, the petitioners requested we extend the 90-day time limit for the withdrawal of the request for a review. On December 28, 2011, we extended the time limit for the withdrawal of the request for the review until February 29, 2012, based on the extraordinary circumstances leading to their request. On February 21, 2012, the petitioners withdrew their request for a review of the order with respect to Apple Film Company, Ltd., Hi-Pack Company, Ltd., Multibax Public Co., Ltd., Sombatchai Plastic Industry, Ltd., Trinity Pac Co. Ltd., and T.S.T. Plaspack Co., Ltd. Because we received no other requests for review of these companies and the petitioners withdrew their request within the extended time limit for the withdrawal of the request for a review, we are rescinding the administrative review of the order with respect to all companies. This rescission is in accordance with 19 CFR 351.213(d)(1). The Department intends to issue appropriate assessment instructions to U.S. Customs and Border Protection within 15 days after publication of this notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning destruction of proprietary information disclosed under an APO in accordance with 19 CFR 351.305(a)(3). Timely written notification of the return or destruction of APO materials or conversion to judicial protective order is hereby requested. Failure to comply with the regulations and terms of an APO is a violation which is subject to sanction.

This notice is published in accordance with section 777(i)(1) of the Tariff Act of 1930, as amended, and 19 CFR 351.213(d)(4).

Dated: April 26, 2012.
Christian Marsh,
Deputy Assistant Secretary for Antidumping and Countervailing Duty Operations.

[FR Doc. 2012-10452 Filed 4-30-12; 8:45 am]

BILLING CODE 3510-DS-P